DEPARTMENT OF COMMERCE

National Oceanic and Atmospheric Administration

RIN 0648-XA455

Pacific Fishery Management Council; Public Meeting

AGENCY: National Marine Fisheries Service (NMFS), National Oceanic and Atmospheric Administration (NOAA), Commerce.

ACTION: Notice of public meetings.

SUMMARY: The Pacific Council and its advisory entities will hold public meetings.

DATES: The Pacific Council and its advisory entities will meet June 6-13, 2011. The Pacific Council meeting will begin on Wednesday, June 8, 2011 at 9 a.m., reconvening each day through Monday, June 13, 2011. All meetings are open to the public, except a closed session will be held from 9 a.m. until 10 a.m. on Wednesday, June 8 to address litigation and personnel matters. The Pacific Council will meet as late as necessary each day to complete its scheduled business.

ADDRESSES: Meetings of the Pacific Council and its advisory entities will be held at the Doubletree Hotel Spokane City Center, 322 North Spokane Falls Court, Spokane, WA 99201; telephone: (509) 455-9600.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks

2. Roll Call

3. Executive Director's Report

4. Approve Agenda

B. Open Comment Period

1. Comments on Non-Agenda Items

C. Salmon Management

1. Fishery Management Plan Amendment 16, Annual Catch Limits and Accountability Measures

D. Highly Migratory Species Management

1. North Pacific Albacore Tuna Fisheries Economic Analysis

2. Recommendations to International Fisheries Organizations

E. Groundfish Management

1. National Marine Fisheries Service Report

2. Stock Assessments for 2013-2014 Groundfish Fisheries

3. Groundfish Amendment 16-5 and 2012 Harvest Specifications and Management Measures

4. Final Schedule for Completing the 2013-14 Specifications and Management Measures and Considerations for Solving Biennial Cycle Process Issues

5. Consideration of Inseason Adjustments—Part 1

6. Trawl Rationalization and Associated General Groundfish Fishery Issues Slated for Final Action, Including Those in the Program Improvements and Enhancement (PIE) Rule

7. Priority Trailing Actions Under Trawl Rationalization Slated for Preliminary Action

8. Consideration of Inseason Adjustments—Part 2

F. Administrative Matters

1. Legislative Matters

2. Approval of Council Meeting Minutes

3. Fiscal Matters

4. Membership Appointments and Council Operating Procedures

5. Future Council Meeting Agenda and Workload Planning

G. Coastal Pelagic Species Management

1. National Marine Fisheries Service Report

2. Pacific Mackerel Management for 2011-2012

H. Ecosystem Based Management

1. Ecosystem Fishery Management Plan

I. Habitat

1. Current Habitat Issues

Schedule of Ancillary Meetings

Day 1—Monday, June 6, 2011

Scientific and Statistical Committee Groundfish Subcommittee and Stock Assessment Review Panel 8 a.m.

Day 2—Tuesday, June 7, 2011

Groundfish Management Team 8 a.m.

Salmon Advisory Subpanel 8 a.m.

Salmon Technical Team 8 a.m.

Scientific and Statistical Committee 8 a.m.

Highly Migratory Species Advisory Subpanel 1 p.m.

Highly Migratory Species Management Team 1 p.m.

Legislative Committee 2 p.m.

Budget Committee 3:30 p.m.

Day 3—Wednesday, June 8, 2011

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Technical Team 8 a.m.

Scientific and Statistical Committee 8 a.m.

Enforcement Consultants 4:30 p.m.

Day 4—Thursday, June 9, 2011

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Scientific and Statistical Committee 8 a.m.

Ecosystem Plan Development Team 1 p.m.

Enforcement Consultants As Needed

Day 5—Friday, June 10, 2011

California State Delegation 7 a.m.

Oregon State Delegation 7 a.m.

Washington State Delegation 7 a.m.

Coastal Pelagic Species Advisory Subpanel 8 a.m.

Coastal Pelagic Species Management Team 8 a.m.

Ecosystem Plan Development Team 8 a.m.

Groundfish Advisory Subpanel 8 a.m.

Groundfish Management Team 8 a.m.

Habitat Committee 8:30 a.m.

Enforcement Consultants As Needed

Day 6—Saturday, June 11, 2011

California State Delegation 7 a.m.

Oregon State Delegation 7 a.m.

Washington State Delegation 7 a.m.

Groundfish Advisory Subpanel 8 a.m.

Groundfish Management Team 8 a.m.

Enforcement Consultants As Needed

Day 7—Sunday, June 12, 2011

California State Delegation 7 a.m.

Oregon State Delegation 7 a.m.

Washington State Delegation 7 a.m.

Enforcement Consultants As Needed

Day 8—Monday, June 13, 2011

California State Delegation 7 a.m.

Oregon State Delegation 7 a.m.

Washington State Delegation 7 a.m.

Enforcement Consultants As Needed

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency. Special Accommodations

These meetings are physically accessible to people with disabilities. Requests for sign language interpretation or other auxiliary aids should be directed to Carolyn Porter at (503) 820-2280 at least 5 days prior to the meeting date.

Dated: May 20, 2011.
Tracey L. Thompson,
Acting Director, Office of Sustainable Fisheries, National Marine Fisheries Service.

[FR Doc. 2011-12926 Filed 5-24-11; 8:45 am]

BILLING CODE 3510-22-P